DEPARTMENT OF JUSTICE

Notice of Lodging of Proposed Consent Decree Under the Clean Air Act

On November 20, 2023, the Department of Justice lodged a proposed Consent Decree (“Decree”) with the United States District Court for the District of Kansas in the lawsuit entitled United States of America and State of Kansas v. Coffeyville Resources Refining & Marketing, LLC, Civil Action No. 6:04-cv-01064.

The proposed Decree will resolve violations of the Clean Air Act arising from Coffeyville Resources Refining & Marketing, LLC's (“CRRM”) operation of a petroleum refinery in Coffeyville, Kansas alleged in a supplemental complaint filed by Plaintiffs in 2020 and amended in 2023. The Decree also resolves Plaintiffs' demand for stipulated penalties under a 2012 consent decree. The Decree requires CRRM to undertake various measures to facilitate future compliance with the Clean Air Act, reduce nitrogen oxide emissions from the refinery's heaters, and build a flare gas recovery system to reduce the refinery's emissions from refinery flares. CRRM will pay $7 million in stipulated penalties and $6.25 million in civil penalties in total to the United States and the State of Kansas, as well as spend at least $1 million on an environmentally beneficial project to be approved by the State of Kansas.

The publication of this notice opens a period for public comment on the Decree. Comments should be addressed to the Assistant Attorney General, Environment and Natural Resources Division, and should refer to United States et al. v. Coffeyville Resources Refining & Marketing, LLC, D.J. Ref. No. 90-5-2-1-07459/5. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Decree may be examined and downloaded at this Justice Department website: https://www.justice.gov/enrd/consent-decrees. We will provide a paper copy of the Decree upon written request and payment of reproduction costs. Please mail your request and payment to: Consent Decree Library, U.S. DOJ—ENRD, P.O. Box 7611, Washington, DC 20044-7611.

Please enclose a check or money order for $36 (25 cents per page reproduction cost) payable to the United States Treasury.

Kathryn C. Macdonald,
Assistant Section Chief, Environmental Enforcement Section, Environment and Natural Resources Division.

[FR Doc. 2023-25960 Filed 11-22-23; 8:45 am]

BILLING CODE 4410-15-P